DEPARTMENT OF DEFENSE

Department of the Navy

[Docket ID: USN-2023-HQ-0016]

Submission for OMB Review; Comment Request

AGENCY: Department of the Navy, Department of Defense (DoD).

ACTION: 30-Day information collection notice.

SUMMARY: The DoD has submitted to the Office of Management and Budget (OMB) for clearance the following proposal for collection of information under the provisions of the Paperwork Reduction Act.

DATES: Consideration will be given to all comments received by March 28, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: 2024 Navy Health of the Force Survey; Navy Health of the Force Survey Program; OMB Control Number 0703-0095.

Type of Request: New Generic Information Collection.

Number of Respondents: 20,000.

Responses per Respondent: 1.

Annual Responses: 20,000.

Average Burden per Response: 20 minutes.

Annual Burden Hours: 6,667.

Needs and Uses: The Navy Health of the Force Survey is a strategic level engagement survey of the Navy Active Duty population that addresses core measures relating to the health of the force. It is conducted on behalf of the Chief of Navy Personnel and under the authority of 5 U.S.C. 301, Departmental Regulations; 10 U.S.C. 8031 and 8032, Office of the Chief of Naval Operations; and OPNAV Instruction 5300.8C, “Coordination and Control of Personnel Surveys.” The core survey questions support trend analysis on Sailor job satisfaction, retention plans, and influences to stay or leave; Health of the Force Metrics of connectedness, cohesion, organizational commitment, job satisfaction, trust and inclusion; and diversity, equity and inclusion in the Navy.

The 2024 Health of the Force—Personal (HOF-P) Survey addresses Sailors' personal lives and the programs and policies that impact them. It includes questions about housing for single Sailors, access to healthcare, pregnancy and support for pregnant Sailors, childcare, parental leave, post birth return to work policies and support for work/life balance. Navy management uses the results to evaluate the effectiveness of important programs and policies. Insights from the survey are included in the Navy's HOF Report to Congress and congressional testimony. By consolidating questions about related programs and policies into a single survey, we minimize the burden on Sailors, reducing multiple potentially overlapping single issue or program focused surveys to a single data collection event.

Affected Public: Individuals or households (Active Duty Sailors).

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Mr. Reginald Lucas.

Requests for copies of the information collection proposal should be sent to Mr. Lucas at whs.mc-alex.esd.mbx.dd-dod-information-collections@mail.mil.

Dated: February 21, 2024.
Aaron T. Siegel,
Alternate OSD Federal Register Liaison Officer, Department of Defense.

[FR Doc. 2024-03978 Filed 2-26-24; 8:45 am]

BILLING CODE 6001-FR-P